INTERNATIONAL TRADE COMMISSION

[Investigation Nos. 701-TA-621 and 731-TA-1447 (Review)]

Ceramic Tile From China; Determinations

On the basis of the record ¹ developed in the subject five-year reviews, the United States International Trade Commission (“Commission”) determines, pursuant to the Tariff Act of 1930 (“the Act”), that revocation of the antidumping and countervailing duty orders on ceramic tile from China would be likely to lead to continuation or recurrence of material injury to an industry in the United States within a reasonably foreseeable time.²

¹ The record is defined in § 207.2(f) of the Commission's Rules of Practice and Procedure (19 CFR 207.2(f)).

² Commissioner David S. Johanson dissenting.

Background

The Commission instituted these reviews on May 1, 2025 (90 FR 18694) and determined on August 4, 2025, that it would conduct expedited reviews (90 FR 45054, September 18, 2025).³

³ Due to the lapse in appropriations and ensuing cessation of Commission operations, the Commission tolled its schedule for this proceeding.

The Commission made these determinations pursuant to section 751(c) of the Act (19 U.S.C. 1675(c)). It completed and filed its determinations in these reviews on February 17, 2026. The views of the Commission are contained in USITC Publication 5687 (February 2026), entitled Ceramic Tile from China: Investigation Nos. 701-TA-621 and 731-TA-1447 (Review).

By order of the Commission.
Issued: February 17, 2026.
Lisa Barton,
Secretary to the Commission.

[FR Doc. 2026-03350 Filed 2-19-26; 8:45 am]

BILLING CODE 7020-02-P